DEPARTMENT OF TRANSPORTATION

Federal Railroad Administration

[Docket Number FRA-2020-0090]

Notice of Application for Approval of Discontinuance or Modification of a Railroad Signal System

Under part 235 of title 49 Code of Federal Regulations (CFR) and 49 U.S.C. 20502(a), this document provides the public notice that on November 19, 2020, the National Railroad Passenger Corporation (Amtrak) petitioned the Federal Railroad Administration (FRA) seeking approval to discontinue or modify a signal system. FRA assigned the petition Docket Number FRA-2020-0090.

Applicant: National Railroad Passenger Corporation, Nicholas J. Croce III, PE, Deputy Chief Engineer, C&S, 2995 Market Street, Philadelphia, PA 19104.

Specifically, Amtrak requests permission to convert approximately 3 miles of its cab signal and fixed automatic block signal system to a signal system having cab signals without fixed automatic block signals, operated under NORAC Rule 562, on Amtrak's Mid-Atlantic Division, Main Line Philadelphia to Washington, Northeast Corridor, between Bush interlocking located at milepost (MP) 71.6, in Perryman, Maryland, and Wood interlocking located at MP 75.3, in Edgewood, Maryland. Amtrak is the owner and operator of this line. Maryland Area Regional Commuter Train Service and Norfolk Southern Railway operate on portions of this line as tenants with trackage rights. Both have concurred with the application.

The changes proposed are to remove the wayside signals on Tracks No. 2 and No. 3 at automatic block points 733 and 744. Both locations will remain in service as a block point without wayside signals.

The reason for removal of the signals is to eliminate maintenance and operation of unnecessary hardware and to reduce delays to trains caused by failures of the signals.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by January 25, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety,Chief Safety Officer.

[FR Doc. 2020-27268 Filed 12-10-20; 8:45 am]

BILLING CODE 4910-06-P